ENVIRONMENTAL PROTECTION AGENCY

40 CFR Part 136

[FRL-7527-8]

RIN 2040-AD53

Guidelines Establishing Test Procedures for the Analysis of Pollutants; Procedures for Detection and Quantitation; Reopening of Comment Period

AGENCY: Environmental Protection Agency (EPA).

ACTION: Proposed rule and Notice of Document Availability; reopening of comment period.

SUMMARY: The U.S. Environmental Protection Agency is reopening the comment period for the proposed rule and the notice of document availability (NODA) regarding EPA's assessment of detection and quantitation procedures. The proposed rule and the NODA were published in the Federal Register on March 12, 2003 (68 FR 11770 and 68 FR 11791, respectively), and the comment periods for both were scheduled to end on July 10, 2003. The Agency is reopening the comment periods for 30 days, and they will now end on August 15, 2003.

DATES: Comments must be postmarked, delivered by hand, or electronically mailed on or before August 15, 2003. Comments provided electronically will be considered timely if they are submitted by 11:59 p.m. Eastern Time on August 15, 2003.

ADDRESSES: Comments may be submitted by mail to Water Docket, U.S. Environmental Protection Agency (4101T), 1200 Pennsylvania Avenue, NW., Washington, DC, 20460, or electronically through EPA Dockets at http://www.epa.gov/edocket/, Attention Docket No. OW-2003-0002. See Unit C of the SUPPLEMENTARY INFORMATION section of the March 12, 2003, Federal Register notice for the proposed rule (68 FR 11771-11772) and Unit I.B of the SUPPLEMENTARY INFORMATION section of the March 12, 2003, Federal Register notice for the NODA (68 FR 11791-11792) for additional ways to submit comments and more detailed instructions.

FOR FURTHER INFORMATION CONTACT: William Telliard; Engineering and Analysis Division (4303T); Office of Science and Technology; Office of Water; U.S. Environmental Protection Agency; Ariel Rios Building; 1200 Pennsylvania Avenue, NW.; Washington, DC 20460, or call (202) 566-1061 or E-mail at telliard.william@epa.gov.

SUPPLEMENTARY INFORMATION:

A. Background

EPA's method detection limit (MDL) and minimum level of quantitation (ML) are used to define analytical method (test) sensitivity under the Clean Water Act (CWA). In February 2003, EPA's Office of Water completed an assessment of detection and quantitation concepts and their application under CWA programs. On March 12, 2003, EPA published a document (68 FR 11791) making available for public comment an assessment document entitled “Technical Support Document for the Assessment of Detection and Quantitation Concepts” (EPA 821-R-03-005, February 2003). On the same date, EPA also published proposed revisions to the current EPA procedure for determining test sensitivity under EPA's CWA programs (available at 40 CFR part 136, appendix B) (68 FR 11770). The proposed revisions include clarifications and improvements based on the assessment of the MDL, ML, and other approaches for defining test sensitivity; peer review of the assessment; and stakeholder comments on the existing MDL procedure.

The 120-day public comment periods established for the proposed rule and NODA were scheduled to end July 10, 2003. EPA received a request to extend the public comment for the proposed rule period beyond that due date.

In order to give the public enough time to review and comment on the proposed rule, EPA is reopening the comment period for an additional 30 days to August 15, 2003, for each of those documents.

B. Reopening of Comment Period

This document reopens the public comment periods established in the Federal Register issued on March 12, 2003 (68 FR 11770 and 68 FR 11791). In those documents, EPA requested public comments on the Agency's proposed rule and on the assessment document entitled “Technical Support Document for the Assessment of Detection and Quantitation Concepts” (EPA 821-R-03-005, February, 2003). EPA is hereby reopening the comment periods to August 15, 2003.

To submit comments, or access the official public docket, please follow the detailed instructions as provided in the SUPPLEMENTARY INFORMATION sections of the March 12, 2003 Federal Register actions for the proposed rule (68 FR 11771-11772) and the NODA (68 FR 11791-11792). If you have questions, consult the person listed under the FOR FURTHER INFORMATION CONTACT section of this action.

Dated: July 9, 2003.
G. Tracy Mehan, III,
Assistant Administrator for Water.

[FR Doc. 03-17875 Filed 7-15-03; 8:45 am]

BILLING CODE 6560-50-P